DEPARTMENT OF DEFENSE

Office of the Secretary

Submission for OMB Review; Comment Request

ACTION: Notice.

The Department of Defense has submitted to OMB for clearance, the following proposal for a new collection of information under the provisions, of the Paperwork Reduction Act (44 U.S.C. Chapter 35).

DATES: Consideration will be given to all comments received by November 15, 2001.

Title and OMB Number: West Point Engineering Graduates Surveys; OMB Number 0702-[To Be Determined].

Type of Request: New Collection.

Number of Respondents: 519.

Responses Per Respondent: 1.

Annual Responses: 519.

Average Burden Per Response: 25 minutes.

Annual Burden Hours: 218.

Needs and Uses: An assessment of perceptions of graduates on the effectiveness of the U.S. Military Academy programs and curricula is needed for periodic accreditation by the Accreditation Board for Engineering and Technology. The information collected will be used to evaluate programs/curricula and make changes deemed advisable. The information will be collected via seven surveys, each with content appropriate to graduates of engineering and engineering and engineering-related courses of study at the U.S. Military Academy. The surveys will go to graduates currently serving as officers in the U.S. Army and to graduates not currently serving. Respondents will be allowed to choose between completing a mailed survey or an Internet-based survey.

Affected Public: Individuals or Households.

Frequency: On Occasion (Every Three Years).

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing. Written requests for copies of the information collection proposal should be sent to Mr. Cushing. WHS/DIOR, 1215 Jefferson Davis Highway, Suite 1204, Arlington, VA 22202-4302.

Dated: October 10, 2001.
Patricia L. Toppings,
Alternate OSD Federal Register, Liaison Officer, Department of Defense.

[FR Doc. 01-25925 Filed 10-15-01; 8:45 am]

BILLING CODE 5001-08-M